NUCLEAR REGULATORY COMMISSION

Documents Containing Reporting or Recordkeeping Requirements: Office of Management and Budget (OMB) Review

AGENCY: U.S. Nuclear Regulatory Commission (NRC).

ACTION: Notice of the OMB review of information collection and solicitation of public comment.

SUMMARY: The NRC has recently submitted to OMB for review the following proposal for the collection of information under the provisions of the Paperwork Reduction Act of 1995 (44 U.S.C. Chapter 35).

1. Type of submission, new, revision, or extension: Revision.

2. The title of the information collection: Proposed Rule, 10 CFR parts 51, 61, 70, 72, 73, 74, 75, 76, and 150, Material Control and Accounting Amendments.

3. The form number if applicable: DOE/NRC Form 742 and DOE/NRC Form 742C.

4. How often the collection is required: The material control and accounting plan is submitted on occasion (no new applicants are expected). Reports on excessive inventory differences are reportable on occurrence. DOE/NRC Forms 742 and 742C are submitted annually for most licensees and semiannually for 2 licensees.

5. Who will be required or asked to report: Applicants for and holders of specific NRC licenses to receive title to, own, acquire, deliver, receive, possess, use, or initially transfer special nuclear material.

6. An estimate of the number of responses: Reports of excessive inventory difference under Part 74—1 response; DOE/NRC Form 742—202 responses; DOE/NRC Form 742C—182 responses.

7. The estimated number of annual respondents: Part 74 reports of excessive inventory difference—1; DOE/NRC Form 742—200; DOE/NRC Form 742C—180.

8. An estimate of the total number of hours needed annually to complete the requirement or request: Part 74: 1836 hours (Reports of excessive inventory difference 100 hours + 1736 hours recordkeeping [9 hours per respondent]); Part 70:—1768 hours; DOE/NRC Form 742—152 hours (45 minutes per response); DOE/NRC Form 742C—1,092 hours (6 hours per response).

9. An indication of whether Section 3507(d), Pub. L. 104-13 applies: Applicable

10. Abstract: The Nuclear Regulatory Commission is proposing to amend its regulations in Parts 70, 72, and 74 that establish the requirements for material control and accounting of special nuclear material applicable to licensees who possess and use special nuclear material. The reporting requirements for submitting material balance reports (DOE/NRC Form 742) and inventory composition reports (DOE/NRC Form 742C) are being revised to reduce the frequency and change the timing of the reports. The general MC&A requirements and the requirements for Category II facilities are being relocated from Part 70 to Part 74. The MC&A requirements for Category II facilities are also being revised to be more risk-informed. The information in the reports and records is used by the NRC staff to ensure that public health and safety of the public is protected and that licensee possession and use of special nuclear material is in compliance with license and regulatory requirements. The information collection requirements imposed on the licensee are those deemed necessary for the timely discovery of inadvertent losses of special nuclear material to the environment or the theft or diversion of special nuclear material by potentially hostile groups. Certain of the requirements are necessary to satisfy obligations of the United States under its agreements with the International Atomic Energy Agency.

Submit, by June 25, 2001, comments that address the following questions:

1. Is the proposed collection of information necessary for the NRC to properly perform its functions? Does the information have practical utility?

2. Is the burden estimate accurate?

3. Is there a way to enhance the quality, utility, and clarity of the information to be collected?

4. How can the burden of the information collection be minimized, including the use of automated collection techniques or other forms of information technology?

A copy of the submittal may be viewed free of charge at the NRC Public Document Room, One White Flint North, 11555 Rockville Pike, Room O-1 F23, Rockville, MD 20852. The proposed rule indicated in “Proposed Rule, 10 CFR Parts 51, 61, 70, 72, 73, 74, 75, 76, and 150, Material Control and Accounting Amendments” is or has been published in the Federal Register within several days of the publication date of this Federal Register Notice. The OMB clearance package and rule are available at the NRC worldwide web site: http://www.nrc.gov/NRC/PUBLIC/OMB/index.html for 60 days after the signature date of this notice and are also available at the rule forum site, http://ruleforum.llnl.gov.

Comments and questions should be directed to the OMB reviewer by June 25, 2001: Amy Farrell, Office of Information and Regulatory Affairs (3150-0004, -0009, -0058, and -0123), NEOB-10202 Office of Management and Budget, Washington DC 20503.

Comments can also be submitted by telephone at (202) 395-7318.

The NRC Clearance Officer is Brenda Jo. Shelton, 301-415-7233.

Dated at Rockville, Maryland, this 17th day of May 2001.
For the Nuclear Regulatory Commission.
Brenda Jo. Shelton,
NRC Clearance Officer, Office of the Chief Information Officer.

[FR Doc. 01-13255 Filed 5-24-01; 8:45 am]

BILLING CODE 7590-01-P